DEPARTMENT OF THE TREASURY

Office of Foreign Assets Control

Notice of OFAC Sanctions Actions; Sanctions Actions Pursuant to Executive Order 13581

AGENCY: Office of Foreign Assets Control, Treasury.

ACTION: Notice.

SUMMARY: The Department of the Treasury's Office of Foreign Assets Control (OFAC) is publishing the names of five individuals and three entities whose property and interests in property have been unblocked.

DATES: OFAC's actions described in this notice were taken on December 22, 2017.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List (SDN List) and additional information concerning OFAC sanctions programs are available from OFAC's website at http://www.treasury.gov/ofac.

Notice of OFAC Actions

On December 22, 2017, OFAC removed from the SDN List the individuals and entities listed below, whose property and interests in property were blocked pursuant to Executive Order 13581.

Individuals

1. ANAPIYAEV, Almanbet Mamadaminovich (a.k.a. ANAPIYAEV, Almanbaet; a.k.a. ANAPIYAEVA, Almambet; a.k.a. ANAPIYAYEV, Almanbet; a.k.a. ANAPIYEV, Almanbet; a.k.a. “ALMANBET ALAISKII”; a.k.a. “ALMANBET ALAY”); DOB 17 Aug 1973; POB Osh Region, Kyrgyzstan; alt. POB Zhkendi Village, Alai Region, Kyrgyzstan; nationality Kyrgyzstan (individual) [TCO].

2. BADALYAN, Artur (a.k.a. BADALYAN, Arthur); DOB 09 Sep 1963 (individual) [TCO].

3. LYALIN, Vadim Mikhaylovich, Oceana Residences, Unit Aegean/8/803, The Palm, Dubai, United Arab Emirates; 1102 Al Fattan Marine Tower, P.O. Box 1102, Dubai, United Arab Emirates; DOB 30 Sep 1973; Passport 4510935440 (Russia) (individual) [TCO].

4. MIRZOYEV, Temuri Suleimanovich (a.k.a. MIRZOEV, Temuri; a.k.a. “TIMUR SVERDLOVSKIY”; a.k.a. “TIMUR TBILISI”; a.k.a. “TIMUR TBILISSKIY”); DOB 07 May 1957; POB Tbilisi, Georgia (individual) [TCO].

5. VAGIN, Vladimir Viktorovich (a.k.a. “VAGON”), Sadaf 2 Sector, Tower C06-T06, Apartment 603, Dubai 32900, United Arab Emirates; DOB 03 Feb 1966; POB Raditshevo, Russia; nationality Russia (individual) [TCO].

Entities

1. THE BROTHERS' CIRCLE (a.k.a. MOSCOW CENTER; f.k.a. “FAMILY OF ELEVEN”; f.k.a. “THE TWENTY”) [TCO].

2. FASTEN TOURISM LLC (a.k.a. FASTEN TOURISM DUBAI; a.k.a. FASTEN TOURS LLC), P.O. Box 19583, Dubai, United Arab Emirates; 171 Omar Ibn Al Khattab Road, Dubai, United Arab Emirates; National ID No. 223263 (United Arab Emirates) [TCO].

3. MERIDIAN JET MANAGEMENT GMBH (f.k.a. SUN HANDELS UND BETEILIGUNGS GMBH), Tegetthoffstrasse 7, Vienna 1010, Austria; National ID No. FN 204685 h (Austria) [TCO].

Dated: December 22, 2017.
John E. Smith,
Director, Office of Foreign Assets Control.

[FR Doc. 2017-28032 Filed 12-27-17; 8:45 am]

BILLING CODE 4810-AL-P